NATIONAL AERONAUTICS AND SPACE ADMINISTRATION

[Notice (07-016)]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATES: February 22, 2007.

FOR FURTHER INFORMATION CONTACT: James J. McGroary, Patent Counsel, Marshall Space Flight Center, Mail Code LS01, Huntsville, AL 35812; telephone (256) 544-6580; fax (256) 544-0258.

NASA Case No. MFS-32364-1: Coil System For Plasmoid Thruster;

NASA Case No. MFS-32253-1: Magnetostrictive Valve Assembly;

NASA Case No. MFS-32342-1: Nuclear Fuel Element Using Grooved Fuel Rings;

NASA Case No. MFS-31649-1: Laser Fresnel Distance Measuring System and Method;

NASA Case No. MFS-31813-1: Method of Joining Metallic and Composite Components;

NASA Case No. MFS-32307-1: Portable Runway Intersection Display and Monitoring System;

NASA Case No. MFS-32291-1: An Advanced Technology Lifecycle Analysis System;

NASA Case No. MFS-32031-1: Fiber Optic Liquid Mass Flow Sensor—Improved Prototype Design;

NASA Case No. MFS-32115-1: Gimbling-Shoulder Friction Stir Welding Tool.

Dated: February 9, 2007.
Keith T. Sefton,
Deputy General Counsel, Administration and Management.

[FR Doc. E7-2905 Filed 2-21-07; 8:45 am]

BILLING CODE 7510-13-P